DEPARTMENT OF COMMERCE

International Trade Administration

California Association for Research in Astronomy dba W.M. Keck Observatory, Notice of Decision on Applications for Duty-Free Entry of Scientific Instruments

This is a decision pursuant to Section 6(c) of the Educational, Scientific, and Cultural Materials Importation Act of 1966 (Pub. L. 89-651, as amended by Pub. .106-36; 80 Stat. 897; 15 CFR part 301). Related records can be viewed between 8:30 A.M. and 5:00 P.M. in Room 3705, U.S. Department of Commerce, 14th and Constitution Ave, NW, Washington, D.C.

Comments: None received. Decision: Approved. We know of no instruments of equivalent scientific value to the foreign instruments described below, for such purposes as this is intended to be used, that was being manufactured in the United States at the time of its order.

Docket Number: 08-061. Applicant: California Association for Research in Astronomy dba W.M. Keck Observatory, Kamuela, HI 96743. Instrument: Laser Launch Telescope Assembly (LTA). Manufacturer: Galileo Avionica, Italy. Intended Use: See notice at 74 FR 9219, March 3, 2009.

Reasons: This laser launch telescope assembly (LTA) has stringent technical requirements in regard to optical qualities, size, weight, and laser power capabilities than standard telescope designs that are used for viewing versus projection of a laser beam. Unique features of this LTA include: 1)it is able to handle the laser power of 20 watts of 589 nanometer light and throughput requirements, 2) it has a temperature range of -10 degrees C to 10 degrees C, and 3) it is able to meet those requirements while the unit is moved from 0 to 70 degrees zenith angle.

Dated: April 7, 2009.
Christopher Cassel,
Acting Director, Subsidies Enforcement Office, Import Administration.

[FR Doc. E9-8389 Filed 4-10-09; 8:45 am]

BILLING CODE: 3510-DS-S